DEPARTMENT OF COMMERCE

National Oceanic and Atmospheric Administration

50 CFR Part 648

[Docket No. 130219149-3524-03]

RIN 0648-BC97

Revisions to Framework Adjustment 50 to the Northeast Multispecies Fishery Management Plan and Sector Annual Catch Entitlements; Updated Annual Catch Limits for Sectors and the Common Pool for Fishing Year 2013

AGENCY: National Marine Fisheries Service (NMFS), National Oceanic and Atmospheric Administration (NOAA), Commerce.

ACTION: Temporary final rule; adjustment to specifications.

SUMMARY: Based on the final Northeast (NE) multispecies sector rosters submitted as of May 1, 2013, we are adjusting the fishing year (FY) 2013 specification of annual catch limits for commercial groundfish vessels, as well as sector annual catch entitlements for groundfish stocks. This revision to fishing year 2013 catch levels is necessary to account for changes in the number of participants electing to fish in either sectors or the common pool fishery.

DATES: Effective June 10, 2013, through April 30, 2014.

FOR FURTHER INFORMATION CONTACT: Allison Murphy, Fishery Policy Analyst, (978) 281-9122.

SUPPLEMENTARY INFORMATION: The New England Fishery Management Council (Council) developed Amendment 16 to the NE Multispecies Fishery Management Plan (FMP), in part, to establish a process for setting groundfish annual catch limits (also referred to as ACLs or catch limits) and accountability measures. The Council has a biennial review process to develop catch limits and revise management measures. Framework Adjustment (FW) 50 and concurrent emergency actions set annual catch limits for nine groundfish stocks and three jointly managed U.S./Canada stocks for FY 2013-2015. We recently partially approved FW 50, which became effective on May 1, 2013 (78 FR 26172; May 3, 2013). In addition to the specification set by FW 50, we took emergency action to set the catch limits for Georges Bank (GB) yellowtail flounder and white hake. For more information on these emergency actions, please see the preamble to FW 50.

Along with FW 50 and the concurrent emergency rule, we recently approved FY 2013 sector operations plans and allocations (78 FR 25591; May 2, 2013; “sector rule”). A sector receives an allocation of each stock, or annual catch entitlement (referred to as ACE, or allocation), based on its members' catch histories. State-operated permit banks also receive an allocation that can be transferred to qualifying sector vessels (for more information, see the final rule implementing Amendment 17 (77 FR 16942; March 23, 2012)). The sum of all sector and state-operated permit bank allocations is referred to as the sector sub-ACL in the FMP. Whatever groundfish allocation remains after sectors and state-operated permit banks receive their allocations is then allocated to vessels not enrolled in a sector (referred to as the common pool). This allocation is also referred to as the common pool sub-ACL.

Changes in sector membership require ACL and ACE adjustments. This rule adjusts the FY 2013 sector and common pool allocations based on final sector membership as of May 1, 2013. Permitted vessels that wish to fish in a sector must enroll by December 1 of each year, with the fishing year beginning the following May 1 and lasting through April 30 of the next year. However, due to a delay in distributing each vessel's potential contribution to a sector's quota for FY 2013, we delayed the deadline to join a sector until March 29, 2013. Because this deadline followed the publication of the FW 50 and sector proposed rules, FY 2012 membership was used to estimate sector ACEs for FY 2013. In addition, vessels had until April 30, 2013 (the day before the beginning of FY 2013) to drop out of a sector and fish in the common pool. If the sector allocation increases as a result of sector membership changes, the common pool allocation decreases—the opposite is true as well. Because sector membership has changed since FY 2012, which was used in the FW 50 and sector rules, we need to update the allocations to all sectors and to the common pool.

The final number of permits enrolled in a sector or state-operated permit bank for FY 2013 is 851 (the same number of permits enrolled in FY 2012 and a decrease of 3 permits from March 29, 2013). All sector allocations assume that each NE multispecies vessel enrolled in a sector has a valid permit for FY 2013. Tables 1, 2, and 3 (below) explain the revised FY 2013 allocations as a percentage and absolute amount (in metric tons and pounds).

Table 4 compares the preliminary allocations based on FY 2012 membership published in the FW 50 proposed and final rules, with the revised allocations based on the final sector and state-operated permit bank rosters as of May 1, 2013. The table shows that changes in sector allocations due to updated rosters range from a decrease of 0.32 percent of Gulf of Maine (GOM) haddock, to an increase of 4.04 percent of Southern New England/Mid-Atlantic (SNE/MA) yellowtail flounder. Common pool allocation adjustments range between a 16.17-percent decrease in SNE/MA yellowtail flounder, to a 59.09-percent increase in GOM haddock. The changes in the common-pool allocations are greater because the common pool has a significantly lower allocation for all stocks, so even small changes appear large when viewed as a percentage increase or decrease.

BILLING CODE 3510-22-P

BILLING CODE 3510-22-C

It is important to point out that this is only a temporary final rule. After we finish reconciling differences in catch accounting between our data and each sector manager's data, each sector will have 2 weeks to trade FY 2012 ACE to account for any overharvesting during that period. After that 2-week trading window, a sector that still has exceeded its FY 2012 allocation will have its FY 2013 allocation reduced, pursuant to regulatory requirements. Because data reconciliation and the 2-week trading window take place after the new fishing year has begun, we reserve 20 percent of each sector's FY 2013 allocation until FY 2012 catch data are reconciled, with the exception of SNE/MA winter flounder, which was newly allocated for FY 2013. This reserve is held to ensure that each sector has sufficient ACE to balance any overages from the previous fishing year. For FY 2013, sectors are also able to carry over up to 10 percent of their initial allocation of all regulated stocks to the next fishing year, with the exception of GOM cod, which can be carried over only up to 1.85 percent. We will publish a final follow-up rule detailing any carryover of FY 2012 sector allocation or reduction in FY 2013 allocation resulting from sectors under or overharvesting their allocations.

FW 50 also specifies incidental catch limits (or incidental total allowable catches, “TACs”) applicable to the common pool and NE multispecies Special Management Programs for FY 2013-2015, including the B day-at-sea (DAS) Program. Special Management Programs are designed to allow fishing for healthy stocks that can support additional fishing effort without undermining the other goals of the FMP. Incidental catch limits are specified to limit catch of certain stocks of concern for common pool vessels fishing in the Special Management Programs. Because these incidental catch limits are based on the changed common-pool allocation, they also must be revised. Final incidental catch limits are included in Tables 5-8 below.

Table 5—FY 2013 Common Pool Incidental Catch TACs
Stock | Percentage of common pool sub-ACL | Incidental catch TAC (mt)
GB cod | 2 | 0.6
GOM cod | 1 | 0.2
GB yellowtail flounder | 2 | 0.03
CC/GOM yellowtail flounder | 1 | 0.1
American Plaice | 5 | 1.3
Witch Flounder | 5 | 0.6
SNE/MA winter flounder | 1 | 1.4

Table 6—Distribution of Common Pool Incidental Catch TACs to each Special Management Program
Stock | Regular B DAS program (percent) | Closed Area I hook gear haddock SAP | Eastern U.S./CA haddock SAP (percent) | Southern closed Area II haddock SAP
GB cod | 50 | 16 | 34
GOM cod | 100 | NA | NA
GB yellowtail flounder | 50 | NA | 50
CC/GOM yellowtail flounder | 100 | NA | NA
American Plaice | 100 | NA | NA
Witch Flounder | 100 | NA | NA
SNE/MA winter flounder | 100 | NA | NA

Table 7—FY 2013 Common Pool Incidental Catch TACs for Each Special Management Program (mt)
Stock | Regular B DAS program | Closed area I hook gear haddock SAP | Eastern U.S./ Canada haddock SAP
GB cod | 0.3 | 0.1 | 0.2
GOM cod | 0.2 | n/a | n/a
GB yellowtail flounder | 0.01 | n/a | 0.01
CC/GOM yellowtail flounder | 0.1 | n/a | n/a
American Plaice | 1.2 | n/a | n/a
Witch Flounder | 0.5 | n/a | n/a
SNE/MA winter flounder | 1.4 | n/a | n/a

Table 8—FY 2013 Common Pool Regular B DAS Program Quarterly Incidental Catch TACs (mt)
| 1st Quarter (13%) | 2nd Quarter (29%) | 3rd Quarter (29%) | 4th Quarter (29%)
GB cod | 0.04 | 0.09 | 0.09 | 0.09
GOM cod | 0.02 | 0.05 | 0.05 | 0.05
GB yellowtail flounder | 0.002 | 0.004 | 0.004 | 0.004
CC/GOM yellowtail flounder | 0.02 | 0.04 | 0.04 | 0.04
American Plaice | 0.16 | 0.36 | 0.36 | 0.36
Witch Flounder | 0.07 | 0.15 | 0.15 | 0.15
SNE/MA winter flounder | 0.18 | 0.39 | 0.39 | 0.39

Classification

Pursuant to section 304(b)(1)(A) of the Magnuson-Stevens Act, the NMFS Assistant Administrator has determined that this final rule is consistent with the NE Multispecies FMP, other provisions of the Magnuson-Stevens Act, and other applicable law.

This final rule has been determined to be not significant for purposes of Executive Order 12866.

Pursuant to 5 U.S.C. 553(b)(3)(B), we find good cause to waive prior public notice and opportunity for public comment on the catch limit and allocation adjustments because allowing time for notice and comment is impracticable and contrary to the public interest. We also find good cause to waive the 30-day delay in effectiveness pursuant to 5 U.S.C. 553(d)(3), so that this final rule may become effective upon filing.

Notice and comment are impracticable and contrary to the public interest because a delay would potentially impair achievement of the management plan's objectives of preventing overfishing and achieving optimum yield by staying within ACLs or allocations. The proposed and final rules for FY 2013 sector operations plans and contracts explained the need and likelihood for adjustments of sector and common pool allocations based on final sector rosters. No comments were received on the potential for these adjustments, which provide an accurate accounting of a sector's or common pool's allocation at this time. If this rule is not effective immediately, the sector and common pool vessels will be operating under incorrect information on the catch limits for each stock for sectors and the common pool. This could cause negative economic impacts to the both sectors and the common pool, depending on the size of the allocation, the degree of change in the allocation, and the catch rate of a particular stock. Further, these adjustments are based purely on objective sector enrollment data and are not subject to NMFS' discretion, so there would be no benefit to allowing time for prior notice and comment.

Waiving the 30-day delay in effectiveness allows harvesting in a manner that prevents catch limits of species from being exceeded in fisheries that are important to coastal communities. Until the final stock allocations are made, the affected fishing entities will not know how many fish of a particular stock they can catch without going over their ultimate limits. Fishermen may make both short- and long-term business decisions based on the catch limits in a given sector or the common pool. Any delays in adjusting these limits may cause the affected fishing entities to slow down, or speed up, their fishing activities during the interim period before this rule becomes effective. Both of these reactions could negatively affect the fishery and the businesses and communities that depend on them. The fishing industry and the communities it supports could be affected by potentially reducing harvests and delaying profits. Lastly, the catch limit and allocation adjustments are not controversial and the need for them was clearly explained in the proposed and final rules for FY 2013 sector operations plans and contracts. As a result, the NE multispecies permit holders are expecting these adjustments and awaiting their implementation. Therefore, it is important to implement adjusted catch limits and allocations as soon as possible. For these reasons, we are waiving the public comment period and delay in effectiveness for this rule, pursuant to 5 U.S.C. 553(b)(3)(B) and (d), respectively.

Authority: 16 U.S.C. 1801 et seq.

Dated: June 5, 2013.
Alan D. Risenhoover,
Director, Office of Sustainable Fisheries, performing the functions and duties of the Deputy Assistant Administrator for Regulatory Programs, National Marine Fisheries Service.

[FR Doc. 2013-13866 Filed 6-10-13; 8:45 am]

BILLING CODE 3510-22-P